DEPARTMENT OF THE INTERIOR

Office of the Secretary

Notice of Proposed Information Collection

AGENCY: Office of the Secretary, Interior.

ACTION: Notice and request of comments.

SUMMARY: In compliance with the Paperwork Reduction Act of 1995, the Department of the Interior, Office of the Secretary is announcing its intention to request re-approval for the collection of information for the DI-Form 381, Claim for Relocation Payments-Residential and DI-Form 382, Claim for Relocation Payments—Nonresidential.

DATES: Comments on the proposed information collection must be received by December 12, 2005, to be assured of consideration.

ADDRESSES: Comments may be mailed to Mary Heying, Department of the Interior, Office of Acquisition and Property Management, 1849 C Street NW., Mail Stop 2607-MIB, Washington, DC 20240. Comments may also be submitted electronically to mary_heying@ios.doi.gov.

FOR FURTHER INFORMATION CONTACT: To request a copy of the information collection request, explanatory information and related forms, contact Mary Heying at (202) 208-4080.

SUPPLEMENTARY INFORMATION: The Office of Management and Budget (OMB) regulations at 5 CFR part 1320, which implements the Paperwork Reduction Act of 1995 (Pub. L. 104-13), require that interested members of the public and affected agencies have an opportunity to comment on information collection and recordkeeping activities (see 5 CFR 1320.8(d)). This notice identifies an information collection activity that the Office of the Secretary will be submitting to OMB for extension or re-approval.

Form DI-381 and Form DI-382 were created because of the amendments to the Uniform Relocation Assistance and Real Property Acquisition Policies Act of 1970 (Act) made by the Uniform Relocation Act Amendments of 1987, Title IV of the Surface Transportation and Uniform Relocation Assistance Act of 1987, Public Law 100-17. We are planning to revise these forms to more closely reflect the changes made by the Uniform Relocation Assistance and Real Property Acquisition Act final rule published January 4, 2005, by the Federal Highway Administration. The revisions will clarify the allowable and nonallowable moving expenses sections; revise the sections relating to certification of occupancy status (citizen or national of the United States or an alien lawfully present in the United States); incorporate citations; and make the forms more user-friendly. The Office of the Secretary will request a 3-year term of approval for this information collection activity.

Comments are invited on: (1) The need for the collection of information for the performance of the function of the agency; (2) the accuracy of the agency's burden estimates; (3) ways to enhance the quality, utility, and clarity of the information collections; and (4) ways to minimize the information collection burden on respondents, such as use of automated means of collection of the information. A summary of the public comments will accompany the Office of the Secretary's submission of the information collection request to OMB.

This notice provides the public with 60 days in which to comment on the following information collection activity:

Title: Claim For Relocation Payments—Residential. Claim For Relocation Payments—Nonresidential.

OMB Control Number: 1084-0010.

Summary: The information required is obtained through application made by displaced person(s) or business(es) to the funding agency for determination as to the specific amount of monies due under the law.

Bureau Form Number: DI-381, DI-382.

Frequency of Collection: On occasion.

Description of Respondents: Individuals and businesses who are displaced because of Federal acquisitions of their real property.

Total Annual Response: 200.

Total Annual Burden Hours: 88 hours.

Dated: October 4, 2005.
Debra E. Sonderman,
Director, Office of Acquisition and Property Management.

[FR Doc. 05-20510 Filed 10-12-05; 8:45am]

BILLING CODE 4310-RF-M